DEPARTMENT OF HOMELAND SECURITY

Office of the Secretary

[Docket No. DHS-2011-0035]

Privacy Act of 1974; Department of Homeland Security United States Coast Guard-024 Auxiliary Database System of Records

AGENCY: Privacy Office, DHS.

ACTION: Notice of Privacy Act system of records.

SUMMARY: In accordance with the Privacy Act of 1974, the Department of Homeland Security proposes to update and reissue an existing Department of Homeland Security system of records titled, “Department of Homeland Security/United States Coast Guard-024 Auxiliary Database (AUXDATA) System of Records.” This system of records will allow the Department of Homeland Security/United States Coast Guard to track and report contact, activity, performance, and achievement information about the members of its volunteer workforce element, the United States Coast Guard Auxiliary. As a result of the biennial review of this system, records have been updated in the “Retention and Disposal” category to reflect the specific retention schedules for personal information, Auxiliary qualifications information, Auxiliary activities information, information on facilities, and Auxiliarists. This updated system will be included in the Department of Homeland Security's inventory of record system.

DATES: Submit comments on or before June 17, 2011. This system will be effective

ADDRESSES: You may submit comments, identified by docket number DHS-2011-0035 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received, go to http://www.regulations.gov.

FOR FURTHER INFORMATION CONTACT: For general questions please contact: Eileen Yenikaliotis (202-475-3515), Privacy Officer, United States Coast Guard, 2100 2nd Street, SW., Washington, DC 20593. For privacy issues please contact: Mary Ellen Callahan (703-235-0780), Chief Privacy Officer, Privacy Office, U.S. Department of Homeland Security, Washington, DC 20528.

SUPPLEMENTARY INFORMATION:

I. Background

In accordance with the Privacy Act of 1974, 5 U.S.C.§ 552a the Department of Homeland Security (DHS) United States Coast Guard (USCG) proposes to update and reissue an existing DHS system of records titled, “DHS/USCG-024 Auxiliary Database (AUXDATA) System of Records.”

The AUXDATA system is the USCG's information system that tracks and reports contact, activity, performance, and achievement information about the members of its volunteer workforce element, the USCG Auxiliary. To become an Auxiliarist, an individual must be at least 17 years of age, be a U.S. citizen, and successfully complete an enrollment process that includes a background check conducted through the Coast Guard Security Center (SECCEN) and the Office of Personnel Management (OPM). Vessel ownership, aircraft ownership, radio station ownership, or special skills are desirable, but not mandatory. When an applicant's Auxiliary enrollment package is forwarded to the Coast Guard District Director of Auxiliary office, the information about the applicant is entered into the AUXDATA system. This places the applicant in an Auxiliary membership status of “Approval Pending” until the completion of the required background check. During this time, the applicant is issued an Employee Identification number and identified as an Auxiliarist with a membership status prior to the completion of the background check. The applicant can begin participating in training, Auxiliary activities, and get limited credit for the participation until the completion of the background check. The majority of applicants ultimately receive favorable background check results and their membership status is changed to “Initially Qualified” or “Basically Qualified” in AUXDATA depending upon their personal training history. If an applicant receives an unfavorable background check, the individual is disenrolled from the Auxiliary. The handling and retention of applicant information in AUXDATA is the same regardless of the duration of the membership and is archived until the record is destroyed/deleted 30 years after disenrollment.

As a result of the biennial review of this system, the “Retention and disposal” category has been amended as follows:

Information collected by AUXDATA is stored for a minimum of five years after the record is created, then retained and destroyed in accordance with USCG Commandant Instruction M5212.12 (series), Information and Life Cycle Management Manual, approved by the National Archives and Records Administration (NARA).

• Personal information (name, employee identification number, address, birth date, phone number) is destroyed/deleted 30 years after disenrollment or death of a member. (AUTH: N1-26-05-10)

• Item 2a Information on facilities (boats, radio stations or aircraft owned by Auxiliarists as well as facility identification numbers (e.g. boat license number) destroy/delete data 5 years after facility becomes inactive or is withdrawn from service. (AUTH: N1-26-05-10) Item 2c(1)

• Item 2b Auxiliary qualifications information (formal designations in program disciplines that result from successful completion of training regimens, for example: Class instructor, vessel examiner, boat coxswain, and certifications and licenses); Training Management Tool destroy/delete data 30 years after disenrollment or death of a member. (AUTH: N1-26-05-10)

• Item 2d Auxiliary activities information (patrols conducted, classes taught); destroy/delete data when no longer needed for administrative use or 5 years after final action is completed. (AUTH: N1-26-05-10)

Consistent with DHS' information sharing mission, information stored in the DHS/USCG Auxiliary Database (AUXDATA) System of Records may be shared with other DHS components, as well as appropriate federal, state, local, tribal, territorial foreign, or international government agencies. This sharing will only occur after DHS determines that the receiving component or agency has a need to know the information to carry out national security, law enforcement, immigration, intelligence, or other functions consistent with the routine uses set forth in this system of records notice. This updated system will be included in DHS' inventory of record systems.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors. Below is the description of the DHS/USCG-024 Auxiliary Database System of Records.

In accordance with 5 U.S.C. 552a(r), DHS has provided a report of this new system of records to the Office of Management and Budget and to Congress.

System of Records

DHS/USCG-024

System name:

United States Coast Guard Auxiliary Database (AUXDATA).

Security classification:

Unclassified.

System location:

Records are maintained at the USCG Headquarters in Washington, DC, the USCG Operations Systems Center in Martinsburg, WV, and field offices.

Categories of individuals covered by the system:

As of January 2011, the Auxiliary had approximately 30,400 members in active status and approximately 7,000 members in retired status (i.e., members who have 15 years of recorded Auxiliary membership but no longer desire to engage in Auxiliary activities). Categories of individuals covered by this system include all current and former USCG Auxiliarists, the volunteer workforce element of the USCG. This includes applicants who have submitted requisite information to the USCG as part of the enrollment process. The enrollment process entails submission of this information, verification of proper age and U.S. citizenship, and completion of a background check conducted through the Coast Guard Security Center (SECCEN) and the Office of Personnel Management (OPM). Auxiliary enrollment ends upon disenrollment, retirement, or death. An Auxiliarist's AUXDATA records are archived upon the end of their enrollment.

Categories of records in the system:

Categories of records in this system include:

• Personal information (name, employee identification number, address, birth date, phone number);

• Auxiliary qualifications information (formal designations in program disciplines that result from successful completion of training regimens, for example: class instructor, vessel examiner, boat coxswain, and certifications and licenses);

• Auxiliary activities information (patrols conducted, classes taught); and

• Information on facilities (boats, radio stations or aircraft-owned by Auxiliarists as well as facility identification numbers (e.g. boat license number).

Authority for maintenance of the system:

5 U.S.C. 301; The Federal Records Act, 44 U.S.C. 3101; 14 U.S.C. 632, 830, and 831; COMDTINST M16790.1 (series).

Purpose(s):

This system is the primary information management tool for the USCG Auxiliary program. As the repository for personal and activity data for Auxiliarists and the units they comprise, AUXDATA is routinely used at local, regional, and national USCG levels to measure and monitor the levels of support that the Auxiliary provides to USCG missions and to recognize Auxiliarists for their service. It also provides an inventory of Auxiliary surface, air, and radio facilities that are offered to and accepted for use by the USCG.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

Disclosure to consumer reporting agencies:

None.

Policies and practices for storing, retrieving, accessing, retaining, and disposing of records in the system:

Storage:

Records in this system are stored electronically or on paper in secure facilities in a locked drawer behind a locked door. The records are stored on tape at the USCG Operations Systems Center in Martinsburg, WV.

Retrievability:

Information may be retrieved by an individual's name and employee identification number (EMPLID).

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Information collected by AUXDATA is stored for a minimum of five years after the record is created, then retained and destroyed in accordance with Coast Guard Commandant Instruction M5212.12 (series), Information and Life Cycle Management Manual, approved by the National Archives and Records Administration (NARA).

• Personal information (name, employee identification number, address, birth date, phone number) is destroyed/deleted 30 years after disenrollment or death of a member. (AUTH: N1-26-05-10)

• Item 2a Information on facilities (boats, radio stations or aircraft-owned by Auxiliarists as well as facility identification numbers (e.g. boat license number) destroy/delete data 5 years after facility becomes inactive or is withdrawn from service. (AUTH: N1-26-05-10) Item 2c(1)

• Item 2b Auxiliary qualifications information (formal designations in program disciplines that result from successful completion of training regimens, for example: Class instructor, vessel examiner, boat coxswain, and certifications and licenses); Training Management Tool Destroy/Delete data 30 years after disenrollment or death of a member. (AUTH: N1-26-05-10)

• Item 2d Auxiliary activities information (patrols conducted, classes taught); Destroy/Delete data when no longer needed for administrative use or 5 years after final action is completed. (AUTH: N1-26-05-10)

System Manager and address:

United States Coast Guard, Office of Command, Control, Communications, Computers, and Sensors Capabilities (CG-761), United States Coast Guard, 2100 2nd Street, SW., Washington, DC 20593-0001. United States Coast Guard, Office of Auxiliary and Boating Safety (CG-542), United States Coast Guard, 2100 2nd Street, SW., Washington, DC 20593-0001.

Notification procedure:

Individuals seeking notification of and access to any record contained in this system of records, or seeking to contest its content, may submit a request in writing to United States Coast Guard, Office of Command, Control, Communications, Computers, and Sensors Capabilities (CG-761), United States Coast Guard, 2100 2nd Street, SW., Washington, DC 20593-0001. United States Coast Guard, Office of Auxiliary and Boating Safety (CG-542), United States Coast Guard, 2100 2nd Street, SW., Washington, DC 20593-0001.

When seeking records about yourself from this system of records or any other USCG system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Records are obtained from forms completed by USCG Auxiliary members.

Exemptions claimed for the system:

None.

Dated: April 19, 2011.
Mary Ellen Callahan,
Chief Privacy Officer, Department of Homeland Security.

[FR Doc. 2011-12029 Filed 5-17-11; 8:45 am]

BILLING CODE 9110-04-P